DEPARTMENT OF HOMELAND SECURITY

Coast Guard

33 CFR Part 165

[Docket Number USCG-2025-0082]

RIN 1625-AA00

Safety Zones; Recurring Events in Captain of the Port Duluth Zone

AGENCY: Coast Guard, DHS.

ACTION: Notice of proposed rulemaking.

SUMMARY: The Coast Guard is proposing to revise existing regulations for recurring safety zones in the Captain of the Port Duluth Zone. The proposed amendments would update the table of annually recurring marine events, add definitions, and clarify how and when the COTP may enforce listed zones. These changes are intended to improve the timeliness and clarity of public notification, enhance mariner situational awareness, and promote the safety of life on the navigable waters of the western Great Lakes during recurring near-shore events. We invite your comments on this proposed rulemaking.

DATES: Comments and related material must be received by the Coast Guard on or before October 9, 2025.

ADDRESSES: You may submit comments identified by docket number USCG-2025-0082 using the Federal Docket Management System at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email LT Zachary Fedak, Marine Safety Unit Duluth, U.S. Coast Guard; telephone 218-522-0708, email Zachary.A.Fedak@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

Each year, communities throughout the western Lake Superior region sponsor marine events that generate predictable concentrations of spectator vessels in confined harbor and near-shore waters. These activities pose recurring hazards, including the accidental discharge of fireworks, falling embers or debris, and congestion of swimmers or boaters. In such conditions, even routine vessel wakes or sudden wind shifts can increase the risk of collisions and injuries.

To address these risks, the Coast Guard previously codified annually recurring safety zones for these events in 33 CFR 165.943. Under the current regulation, enforcement of each zone must be individually noticed, which can result in fragmented or delayed information reaching mariners. This fragmentation may lead to confusion when multiple events occur in close proximity or on separate dates.

Through this proposed rule, the Coast Guard seeks to revise § 165.943 to improve clarity, consistency, and public communication. Proposed changes include: defining key terms to support uniform enforcement; clarifying procedures for enforcement and early suspension of safety zones; updating the regulation's structure and formatting; and framing the rule to allow flexibility for consolidated Notifications of Enforcement when operationally appropriate. These revisions are intended to enhance the predictability and timeliness of safety communications, thereby improving mariner situational awareness and promoting the safety of life on navigable waters. The Coast Guard is proposing this rulemaking under authority in 46 U.S.C. 70034.

III. Discussion of Proposed Rule

The Coast Guard is proposing to revise the existing regulatory text and associated table establishing annually recurring safety zones within the Captain of the Port (COTP) Duluth Zone, as listed in 33 CFR 165.943. The proposed changes would update event listings, clarify enforcement procedures, add relevant definitions, and structure the rule in a way that may accommodate a single Notification of Enforcement announcing multiple zones or event dates. These revisions are intended to improve the clarity, consistency, and timeliness of public notification.

The geographic locations and general durations of the safety zones remain unchanged. Each safety zone would continue to be enforced only during specific periods, which will be announced in advance through publication of a Notification of Enforcement in the Federal Register and via Broadcast Notices to Mariners over VHF-FM marine channel 16. These measures ensure continued protection of persons, vessels, and the navigable waters of the western Great Lakes during recurring safety zone enforcement periods.

During periods of enforcement, no vessel or person may enter a designated safety zone without obtaining prior authorization from the COTP Duluth or their designated on-scene representative. The revised regulatory text, which includes updated enforcement procedures, defined terms, exemption and waiver provisions, and provisions for rain dates and early suspension of enforcement, appears at the end of this document.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons. The amendments primarily update event listings, clarify enforcement procedures, and improve public notification without expanding the zones' geographic scope or duration. Vessel traffic can safely transit around these zones, which are short in duration, geographically limited, and often occur during off-peak periods. The Coast Guard will continue issuing Broadcast Notices to Mariners via VHF-FM marine channel 16, and vessels may request permission to enter the zones.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

B. Collection of Information

This proposed rule would not call for a new collection of information under the Paperwork Reduction Act of 1995 (44 U.S.C. 3501-3520).

C. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves revision of an existing regulation establishing recurring safety zones in the Captain of the Port Duluth Zone. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at https://www.regulations.gov. To do so, go to https://www.regulations.gov, type USCG-2025-0082 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors; Marine safety; Navigation (water); Reporting and recordkeeping requirements; Security measures; Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Revise § 165.943 to read as follows:

§ 165.943 Safety Zones; Recurring Events in Captain of the Port Duluth Zone.

(a) Regulations. (1) In accordance with the general regulations in § 165.23 of this part, entry into, transiting, or anchoring within this safety zone is prohibited unless authorized by the Captain of the Port (COTP) Duluth or his or her designated on-scene representative.

(2) These safety zones are closed to all vessel traffic, except as may be permitted by the COTP Duluth or his or her designated on-scene representative.

(3) The “on-scene representative” of the COTP Duluth is any Coast Guard commissioned, warrant or petty officer who has been designated by the COTP Duluth to act on his behalf.

(4) Vessel operators desiring to enter or operate within the safety zone must contact the COTP Duluth or his or her on-scene representative to obtain permission to do so. The COTP Duluth or his or her on-scene representative may be contacted via VHF Channel 16. Vessel operators given permission to enter or operate in the safety zone must comply with all directions given to them by the COTP Duluth, or his or her on-scene representative.

(5) The enforcement dates and times for each of the safety zones listed in Table 1 are subject to change, but the duration of enforcement would remain the same or nearly the same as stated in Table 1. In the event of a change, the COTP Duluth will provide notice to the public by publishing a Notification of Enforcement in the Federal Register, as well as issuing a Broadcast Notice to Mariners.

(b) Definitions. As used in this section:

(1) Designated representative means any Coast Guard coxswain, petty officer, or other officer operating a Coast Guard vessel and a Federal, State, and local officer designated by or assisting the COTP Duluth in the enforcement of each safety zone.

(2) Public vessel means a vessel that is owned, chartered, or operated by the United States, or by a State or political subdivision thereof.

(3) Rain date refers to an alternate date and/or time in which the safety zone would be enforced in the event of inclement weather.

(c) Suspension of enforcement. The COTP Duluth may suspend enforcement of any of these zones earlier than listed in this section. Should the COTP Duluth suspend any of these zones earlier than the listed duration in this section, he or she may make the public aware of this suspension by Broadcast Notice to Mariners and/or on-scene notice by his or her designated representative.

(d) Exemption. Public vessels, as defined in paragraph (b) of this section, are exempt from the requirements in this section.

(e) Waiver. For any vessel, the COTP Duluth or his or her designated representative may waive any of the requirements of this section upon finding that operational conditions or other circumstances are such that application of this section is unnecessary or impractical for the purposes of safety or security.

(f) Notification The enforcement dates and times for each of the listed safety zones are subject to change. Advance notice to the local maritime community will be made well in advance of the events through Notification(s) of Enforcement in the Federal Register, listing exact times and dates of the enforcement periods. A Broadcast Notice to Mariners will also be issued.

Table 1 to § 165.943
[Datum NAD 1983]
Event | Location | Enforcement date and time
(a) June Safety Zones
(1) Bridgefest Regatta Fireworks Display | All waters of the Keweenaw Waterway in Hancock, MI within the arc of a circle with a radius of no more than 1,120 feet from the launch site at position 47°07′22″ N, 088°35′28″ W | Mid-June.
(a) July Safety Zones
(1) Ashland 4th of July Fireworks Display | All waters of Chequamegon Bay in Ashland, WI within the arc of a circle with a radius of no more than 1,120 feet from the launch site at position 46°35′50″ N, 090°52′59″ W | On or around July 4th.
(2) City of Bayfield 4th of July Fireworks Display | All waters of the Lake Superior North Channel in Bayfield, WI within the arc of a circle with a radius of no more than 1,120 feet from the launch site at position 46°48′40″ N, 090°48′32″ W | On or around July 4th.
(3) Cornucopia 4th of July Fireworks Display | All waters of Siskiwit Bay in Cornucopia, WI within the arc of a circle with a radius of no more than 1,120 feet from the launch site at position 46°51′35″ N, 091°06′15″ W | On or around July 4th.
(4) Duluth 4th Fest Fireworks Display | All waters of the Duluth Harbor Basin, Northern Section in Duluth, MN within the arc of a circle with a radius of no more than 1,120 feet from the launch site at position 46°46′14″ N, 092°06′16″ W | On or around July 4th.
(5) LaPointe 4th of July Fireworks Display | All waters of Lake Superior in LaPointe, WI within the arc of a circle with a radius of no more than 1,120 feet from the launch site at position 46°46′40″ N, 090°47′22″ W | On or around July 4th.
(6) Two Harbors 4th of July Fireworks Display | All waters of Agate Bay in Two Harbors, MN within the arc of a circle with a radius of no more than 1,120 feet from the launch site at position 47°00′54″ N, 091°40′04″ W | On or around July 4th.
(7) Superior 4th of July Fireworks Display | All waters of Superior Bay in Superior, WI within the arc of a circle with a radius of no more than 1,120 feet from the launch site at position 46°43′28″ N, 092°03′38″ W | On or around July 4th.
(a) August Safety Zones
(1) Point to LaPointe Swim | All waters of the Lake Superior North Channel between Bayfield and LaPointe, WI within an imaginary line created by the following coordinates: 46°48′50″ N, 090°48′44″ W, moving southeast to 46°46′44″ N, 090°47′33″ W, then moving northeast to 46°46′52″ N, 090°47′17″ W, then moving northwest to 46°49′03″ N, 090°48′25″ W, and finally returning to the starting position | Early August.
(2) Lake Superior Dragon Boat Festival Fireworks Display | All waters of Superior Bay in Superior, WI within the arc of a circle with a radius of no more than 1,120 feet from the launch site at position 46°43′28″ N, 092°03′47″ W | Late August.
(3) Superior Man Triathlon | All waters of the Duluth Harbor Basin, Northern Section in Duluth, MN within an imaginary line created by the following coordinates: 46°46′36″ N, 092°06′06″ W, moving southeast to 46°46′32″ N, 092°06′01″ W, then moving northeast to 46°46′45″ N, 092°05′45″ W, then moving northwest to 46°46′49″ N, 092°05′49″ W, and finally returning to the starting position | Late August.

Dated: August 27, 2025.
John P. Botti,
Commander, U.S. Coast Guard, Captain of the Port Marine Safety Unit Duluth.

[FR Doc. 2025-17270 Filed 9-8-25; 8:45 am]

BILLING CODE 9110-04-P